DEPARTMENT OF HOMELAND SECURITY

Data Integrity, Privacy, and Interoperability Advisory Committee

AGENCY: Privacy Office, Department of Homeland Security.

ACTION: Extension of application period for committee membership.

SUMMARY: The period for candidates to submit applications for membership on the Data Integrity, Privacy, and Interoperability Advisory Committee is being extended to May 15, 2004.

DATES: Application forms for membership should reach the Privacy Office on or before May 15, 2004.

ADDRESSES: You may request an application form by writing to Tina Hubbell, U.S. Department of Homeland Security Privacy Office, Washington, DC 20528, by calling (202) 772-9848, or by faxing (202) 772-5036. Send your application in written form to the above address.

Responsible DHS Officials: Nuala O'Connor Kelly, Chief Privacy Officer, Department of Homeland Security, Washington, DC 20528, telephone (202) 772-9848.

SUPPLEMENTARY INFORMATION: In an April 9, 2004, Federal Register Notice (69 FR 18923 April 9, 2004), the Department of Homeland Security provided notice that the Secretary was establishing the Data Integrity, Privacy, and Interoperability Advisory Committee and requested that qualified individuals interested in serving should apply for membership by April 30, 2004. Potential candidates have requested more time to submit applications. Therefore, we are extending the period to submit applications to May 15, 2004. Applications should be received on or before that date but will be accepted for a limited time after May 15.

Dated: April 28, 2004.
Nuala O'Connor Kelly,
Chief Privacy Officer, Department of Homeland Security.

[FR Doc. 04-10057 Filed 4-30-04; 8:45 am]

BILLING CODE 4410-10-M